DEPARTMENT OF TRANSPORTATION

Federal Aviation Administration

14 CFR Part 39

[Docket No. FAA-2024-0236; Project Identifier MCAI-2022-00066-R; Amendment 39-22754; AD 2024-10-08]

RIN 2120-AA64

Airworthiness Directives; Leonardo S.p.a. Helicopters

AGENCY: Federal Aviation Administration (FAA), DOT.

ACTION: Final rule.

SUMMARY: The FAA is adopting a new airworthiness directive (AD) for all Leonardo S.p.a. Model AW189 helicopters. This AD was prompted by a report of abnormal oscillatory behavior during automated glide slope approaches, due to sealant on the glide slope (G/S) antenna coaxial connectors. This AD requires visually inspecting certain G/S antennas and G/S antenna coaxial connectors for the presence of any sealant; cleaning parts and removing any sealant; performing an external G/S acceptance test procedure (ATP); and taking corrective actions if necessary. This AD would also prohibit installing certain G/S antennas and G/S antenna coaxial connecters. These requirements are specified in a European Union Aviation Safety Agency (EASA) AD, which is incorporated by reference. The FAA is issuing this AD to address the unsafe condition on these products.

DATES: This AD is effective August 13, 2024.

The Director of the Federal Register approved the incorporation by reference of a certain publication listed in this AD as of August 13, 2024.

ADDRESSES:

AD Docket: You may examine the AD docket at regulations.gov under Docket No. FAA-2024-0236; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For EASA material, contact EASA, Konrad-Adenauer-Ufer 3, 50668 Cologne, Germany; telephone +49 221 8999 000; email ADs@easa.europa.eu; internet easa.europa.eu. You may find the EASA material on the EASA website at ad.easa.europa.eu.

• You may view this service information at the FAA, Office of the Regional Counsel, Southwest Region, 10101 Hillwood Parkway, Room 6N-321, Fort Worth, TX 76177. For information on the availability of this material at the FAA, call (817) 222-5110. It is also available at regulations.gov under Docket No. FAA-2024-0236.

Other Related Service Information: For Leonardo Helicopters service information identified in this final rule, contact Leonardo S.p.A Helicopters, Emanuele Bufano, Head of Airworthiness, Viale G. Agusta 520, 21017 C. Costa di Samarate (Va) Italy; phone (+39) 0331-225074; fax (+39) 0331-229046; or at customerportal.leonardocompany.com/en-US/.

FOR FURTHER INFORMATION CONTACT: Sungmo Cho, Aviation Safety Engineer, FAA, 1600 Stewart Avenue, Suite 410, Westbury, NY 11590; phone: (781) 238-7241; email: Sungmo.D.Cho@faa.gov.

SUPPLEMENTARY INFORMATION:

Background

The FAA issued a notice of proposed rulemaking (NPRM) to amend 14 CFR part 39 by adding an AD that would apply to all Leonardo S.p.a. Model AW189 helicopters. The NPRM published in the Federal Register on February 27, 2024 (89 FR 14417). The NPRM was prompted by EASA AD 2022-0010, dated January 20, 2022 (EASA AD 2022-0010), issued by EASA, which is the Technical Agent for the Member States of the European Union. EASA AD 2022-0010 states an in-flight abnormal oscillatory action of an Model AW189 helicopter was reported during automated G/S approaches. EASA AD 2022-0010 states subsequent investigation identified sealant on the G/S antenna coaxial connectors.

In the NPRM, the FAA proposed to require a one-time inspection of certain G/S antennas and G/S antenna coaxial connectors for the presence of any sealant; cleaning parts and removing any sealant; performing an external G/S ATP; and taking corrective actions if necessary. The FAA is issuing this AD to detect and address sealant on or around the G/S antenna. The unsafe condition, if not addressed, could lead to erratic signals from the G/S antenna, which could result in reduced capability of the helicopter to perform safe automated approaches. See EASA AD 2022-0010 for additional background information.

You may examine EASA AD 2022-0010 in the AD docket at regulations.gov under Docket No. FAA-2024-0236.

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information Under 1 CFR Part 51

EASA AD 2022-0010 requires visually inspecting G/S antenna part number (P/N) 6208-88-62 and G/S antenna coaxial connectors P/N PE4958, which are both parts of G/S antenna kit P/N 8G3430F00111, for any sealant. If any sealant is found, EASA AD 2022-0010 requires removing any sealant, and performing further inspections and corrective actions.

EASA AD 2022-0010 also requires performing an ATP and depending on the results, replacing, and removing certain parts, and additional tests. EASA AD 2022-0010 allows the affected G/S antenna and G/S antenna coaxial connectors to be installed on a helicopter if certain requirements are met.

This material is reasonably available because the interested parties have access to it through their normal course of business or by the means identified in ADDRESSES.

Other Related Service Information

The FAA also reviewed Leonardo Helicopters Alert Service Bulletin No. 189-295, dated November 29, 2021. This service information specifies procedures for visually inspecting the G/S antenna for the presence of sealant; removing any sealant that is detected; removing and replacing any affected parts; performing any corrective actions if necessary, performing an ATP, which includes verifying flight display, decibel milliwatts, and pass/fail information; and reporting certain information to the manufacturer.

Differences Between This AD and the EASA AD

If any discrepancy is found during the ATP, EASA AD 2022-0010 requires replacing each affected part with a serviceable part, whereas this AD requires removing each affected part from service and replacing it with a serviceable part.

Service information referenced in EASA AD 2022-0010 contains an inspection report (ANNEX B), whereas this AD does not require completing that information.

Costs of Compliance

The FAA estimates that this AD affects 4 helicopters of U.S. registry. Labor rates are estimated at $85 per work-hour. Based on these numbers, the FAA estimates the following costs to comply with this AD.

Visually inspecting for sealant around the G/S antenna will take approximately 5 work-hours for an estimated cost of $425 per helicopter and up to $1,700 for the U.S. fleet.

If required, removing any sealant and cleaning any part will take approximately 0.5 work-hour for an estimated cost of $43 per helicopter.

Performing an ATP will take approximately 1 work-hour for an estimated cost of $85 per helicopter and up to $340 for the U.S. fleet.

If required, removing and replacing a G/S antenna, to include removing and replacing the connectors will take approximately 3 work-hours and parts will cost $100,100 for an estimated cost of $100,355 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-10-08 Leonardo S.p.a.: Amendment 39-22754; Docket No. FAA-2024-0236; Project Identifier MCAI-2022-00066-R.

(a) Effective Date

This airworthiness directive (AD) is effective August 13, 2024.

(b) Affected ADs

None.

(c) Applicability

This AD applies to all Leonardo S.p.a. Model AW189 helicopters, certificated in any category.

(d) Subject

Joint Aircraft System Component (JASC) Code: 3432, Glide slope system.

(e) Unsafe Condition

This AD was prompted by a report of abnormal oscillatory behavior during automated glide slope approaches, due to sealant on the glide slope (G/S) antenna coaxial connectors. The FAA is issuing this AD to detect and address sealant on or around the G/S antenna. The unsafe condition, if not addressed, could lead to erratic signals from the G/S antenna, which could result in reduced capability of the helicopter to perform safe automated approaches.

(f) Compliance

Comply with this AD within the compliance times specified, unless already done.

(g) Requirements

Except as specified in paragraphs (h) and (i) of this AD: Comply with all required actions and compliance times specified in, and in accordance with, European Union Aviation Safety Agency (EASA) AD 2022-0010, dated January 20, 2022 (EASA AD 2022-0010).

(h) Exceptions to EASA AD 2022-0010

(1) Where EASA AD 2022-0010 states “flight hours;” for this AD, replace that text with “hours time-in-service.”

(2) Where EASA AD 2022-0010 refers to its effective date, this AD requires using the effective date of this AD.

(3) Where paragraph (1) of EASA AD 2022-0010 states “in accordance with the instructions of Part I of the ASB;” for this AD, replace that text with “in accordance with the Accomplishment Instructions, Part I, paragraphs 4 and 5 of the ASB.”

(4) Where paragraph (2) of EASA AD 2022-0010 states “in accordance with the instructions of Part I of the ASB;” for this AD, replace that text with “in accordance with the Accomplishment Instructions, Part I, paragraphs 6.3 (including the two cautions above paragraph 6.3) through 6.5 (but not paragraphs 6.5.1 and 6.5.2) of the ASB.”

(5) Where paragraphs (4) and (5) of EASA AD 2022-0010 state “discrepancy;” for this AD, replace that text with “discrepancy, which is one or more “fail” results in the acceptance test procedure.”

(6) Where paragraphs (4) and (5) of EASA AD 2022-0010 state to “replace the/those affected parts with serviceable parts;” for this AD, replace that text with “remove the affected part, as defined in EASA AD 2022-0010, from service and replace it with a serviceable part, as defined in EASA AD 2022-0010. Thereafter, after installing a serviceable part, as defined in EASA AD 2022-0010, before further flight, accomplish an acceptance test procedure (ATP) in accordance with the instructions of Annex A of the ASB.”

(7) Where the service information referenced in EASA AD 2022-0010 specifies discarding existing hardware, this AD requires removing the existing hardware from service.

(8) Where paragraph (4) of EASA AD 2022-0010 states “in accordance with the instructions of Part I of the ASB;” for this AD, replace that text with “in accordance with the Accomplishment Instructions, Part I, paragraphs 9 through 11 of the ASB.”

(9) Where paragraph (5) of EASA AD 2022-0010 states “in accordance with the instructions of Part II of the ASB;” for this AD, replace that text with “in accordance with the Accomplishment Instructions, Part II, paragraphs 2 through 4 of the ASB.”

(10) This AD does not adopt the “Remarks” section of EASA AD 2022-0010.

(i) No Reporting Requirement

Although the service information referenced in EASA AD 2022-0010 specifies to submit certain information to the manufacturer, this AD does not include that requirement.

(j) Special Flight Permits

Special flight permits may be issued in accordance with 14 CFR 21.197 and 21.199, provided there are no passengers, and no flights are performed under instrument flight rules (IFR).

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Sungmo Cho, Aviation Safety Engineer, FAA, 1600 Stewart Avenue, Suite 410, Westbury, NY 11590; phone: (781) 238-7241; email: Sungmo.D.Cho@faa.gov.

(m) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2022-0010, dated January 20, 2022.

(ii) [Reserved]

(3) For EASA AD 2022-0010, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222 5110.

(5) You may view this material at the National Archives and Records Administration (NARA). For information on the availability of this material at NARA, visit www.archives.gov/federal-register/cfr/ibr-locations or email fr.inspection@nara.gov.

Issued on May 14, 2024.
James D. Foltz,
Deputy Director, Compliance & Airworthiness Division, Aircraft Certification Service.

[FR Doc. 2024-14890 Filed 7-8-24; 8:45 am]

BILLING CODE 4910-13-P